RAILROAD RETIREMENT BOARD

Agency Forms Submitted for OMB Review, Request for Comments

SUMMARY: In accordance with the Paperwork Reduction Act of 1995 (44 U.S.C. Chapter 35), the Railroad Retirement Board (RRB) is forwarding five (5) Information Collection Requests (ICR) to the Office of Information and Regulatory Affairs (OIRA), Office of Management and Budget (OMB). Our ICR(s) describe the information we seek to collect from the public. Review and approval by OIRA ensures that we impose appropriate paperwork burdens.

The RRB invites comments on the proposed collections of information to determine (1) The practical utility of the collections; (2) the accuracy of the estimated burden of the collections; (3) ways to enhance the quality, utility and clarity of the information that is the subject of collection; and (4) ways to minimize the burden of collections on respondents, including the use of automated collection techniques or other forms of information technology. Comments to RRB or OIRA must contain the OMB control number of the ICR. For proper consideration of your comments, it is best if RRB and OIRA receive them within 30 days of publication date.

1. Title and purpose of information collection: 3220-0136, Public Service Pension Questionnaires.

Public Law 95-216 amended the Social Security Act of 1977 by providing, in part, that spouse or survivor benefits may be reduced when the beneficiary is in receipt of a pension based on employment with a Federal, State, or local governmental unit. Initially, the reduction was equal to the full amount of the government pension.

Public Law 98-21 changed the reduction to two-thirds of the amount of the government pension. Public Law 108-203 amended the Social Security Act by changing the requirement for exemption to public service offset, that Federal Insurance Contributions Act (FICA) taxes be deducted from the public service wages for the last 60 months of public service employment, rather than just the last day of public service employment.

Sections 4(a)(1) and 4(f)(1) of the Railroad Retirement Act (RRA) provides that a spouse or survivor annuity should be equal in amount to what the annuitant would receive if entitled to a like benefit from the Social Security Administration. Therefore, the public service pension (PSP) provisions apply to RRA annuities. RRB Regulations pertaining to the collection of evidence relating to public service pensions or worker's compensation paid to spouse or survivor applicants or annuitants are found in 20 CFR 219.64c.

The RRB utilizes Form G-208, Public Service Pension Questionnaire, and Form G-212, Public Service Monitoring Questionnaire, to obtain information used to determine whether an annuity reduction is in order. The RRB proposes a non-burden impacting editorial change to G-208 and no changes to Form G-212. The RRB estimates the completion time for Form G-208 at 16 minutes and G-212 at 15 minutes. If a respondent fails to complete the form(s), the RRB may be unable to pay them benefits. One response is required from a respondent.

Previous Requests for Comments: The RRB has already published the initial 60-day notice (75 FR 51117 on August 18, 2010) required by 44 U.S.C. 3506(c)(2). That request elicited no comments.

Information Collection Request (ICR)

Title: Public Service Pension Questionnaires.

OMB Control Number: 3220-0136.

Form(s) submitted: G-208, Public Service Pension Questionnaire; G-212, Public Service Monitoring Questionnaire.

Type of request: Revision of a currently approved collection.

Affected public: Individuals or households.

Abstract: A spouse or survivor annuity under the Railroad Retirement Act may be subjected to a reduction for a public service pension. The questionnaires obtain information needed to determine if the reduction applies and the amount of such reduction.

The burden estimate for the ICR is as follows:

Estimated annual number of respondents: 1,170.

Total annual responses: 1,170.

Total annual reporting hours: 294.

2. Title and Purpose of Information Collection: 3220-0138, Self-Employment and Substantial Service Questionnaire. Section 2 of the Railroad Retirement Act (RRA) provides for payment of annuities to qualified employees and their spouses. In order to receive an age and service annuity, Section 2(e)(3) states that an applicant must stop all railroad work and give up any rights to return to such work. However, applicants are not required to stop non-railroad work or self-employment. The RRB considers some work claimed as “self-employment” to actually be employment for an employer. Whether the RRB classifies a particular activity as self-employment or as work for an employer depends upon the circumstances of each case. These circumstances are prescribed in 20 CFR 216.

Under the 1988 amendments to the RRA, an applicant is no longer required to stop work for a “Last Pre-Retirement Nonrailroad Employer” (LPE). However, section 2(f)(6) of the RRA requires that a portion of the employee's Tier II benefit and supplemental annuity be deducted for earnings from a “LPE” employer.

“LPE” is defined as the last person, company or institution with whom the employee or spouse applicant was employed concurrently with, or after, the applicant's last railroad employment and before their annuity beginning date. If a spouse never worked for a railroad, the LPE employer is the last person for whom he or she worked.

The RRB utilizes Form AA-4, Self-Employment and Substantial Service Questionnaire, when an applicant claims to be self-employed to obtain information needed to determine if the applicant's work is LPE, railroad service or self-employment. If the work is self-employment, the questionnaire identifies any months in which the applicant did not perform substantial service. The RRB proposes no changes to Form AA-4. Completion time is estimated at between 40 and 70 minutes. If a respondent fails to complete Form AA-4, the RRB may be unable to pay them benefits. One response is received from each respondent.

Previous Requests for Comments: The RRB has already published the initial 60-day notice (75 FR 51117 on August 18, 2010) required by 44 U.S.C. 3506(c)(2). That request elicited no comments.

Information Collection Request (ICR)

Title: Self-Employment and Substantial Service Questionnaire.

OMB Control Number: 3220-0138.

Form(s) submitted: AA-4.

Type of request: Extension of a currently approved collection.

Affected public: Individuals or households.

Abstract: Section 2 of the Railroad Retirement Act provides for payment of annuities to qualified employees and their spouses. Work for a Last Pre-Retirement Nonrailroad Employer (LPE), and work in self-employment affect payments in different ways. This collection obtains information to determine whether claimed self-employment is really self-employment, and not work for a railroad or LPE.

The burden estimate for the ICR is as follows:

Estimated annual number of respondents: 600.

Total annual responses: 600.

Total annual reporting hours: 415.

3. Title and Purpose of Information Collection:3220-0184, Earnings Information Request.

Under Section 2 of the Railroad Retirement Act, an annuity is not payable, or is reduced for any month(s) in which the beneficiary works for a railroad or earns more than prescribed amounts. The provisions relating to the reduction or non-payment of annuities by reason of work are prescribed in 20 CFR 230.

To obtain the information needed to determine if an annuity is not payable to an applicant because of earnings in excess of prescribed amounts, the RRB uses a series of basic application forms used to request specific information related to an annuitant's past, present and future earnings. To determine information needed for determining reductions in, or non-payment of, annuities currently being paid to annuitants, the RRB primarily relies on earnings information received from the Social Security Administration under the terms of a computer matching agreements.

The RRB utilizes Form G-19-F, Earnings Information Request, to obtain earnings information that either had not been previously reported or erroneously reported by a beneficiary. The RRB proposes no changes to Form G-19-F. Completion time is estimated at 8 minutes. If respondent fails to complete the form, the RRB may be unable to pay them benefits. One response is required from a respondent.

Previous Requests for Comments: The RRB has already published the initial 60-day notice (75 FR 41557 on July 16, 2010) required by 44 U.S.C. 3506(c)(2). That request elicited no comments.

Information Collection Request (ICR)

Title: Earnings Information Request.

OMB Control Number: 3220-0184.

Form(s) submitted: G-19F.

Type of request: Extension of a currently approved collection.

Affected public: Individuals or households.

Abstract: Under Section 2 of the Railroad Retirement Act, an annuity is not payable or is reduced for any month(s) in which the beneficiary works for a railroad or earns more than prescribed amounts. The collection obtains earnings information not previously or erroneously reported by a beneficiary.

The burden estimate for the ICR is as follows:

Estimated annual number of respondents: 900.

Total annual responses: 900.

Total annual reporting hours: 120.

4. Title and Purpose of Information Collection:3220-0196, Investigation of Claim for Possible Days of Employment.

Under Section 1(k) of the Railroad Unemployment Insurance Act (RUIA), unemployment and sickness benefits are not payable for any day with respect to which remuneration is payable or accrues to the claimant. Also Section 4(a-1) of the RUIA provides that unemployment or sickness benefits are not payable for any day the claimant receives the same benefits under any law other than the RUIA. Under Railroad Retirement Board (RRB) regulations, 20 CFR 322.4(a), a claimant's certification or statement on an RRB provided claim form that he or she did not work on any day claimed and did not receive income such as vacation pay or pay for time lost shall constitute sufficient evidence unless there is conflicting evidence. Further, under 20 CFR 322.4(b), when there is a question raised as to whether or not remuneration is payable or has accrued to a claimant with respect to a claimed day or days, investigation shall be made with a view to obtaining information sufficient for a finding.

The RRB utilizes Form ID-5S(SUP), Report of Cases for Which All Days Were Claimed During a Month Credited Per an Adjustment Report, to collect information about compensation credited to an employee during a period when the employee claimed either unemployment or sickness benefits from a railroad employer. The request is generated as a result of a computer match that compares data which is maintained in the RRB's RUIA Benefit Payment file with data maintained in the RRB's records of service. The ID-5S(SUP) is generated annually when the computer match indicates that an employee(s) of the railroad employer was paid unemployment or sickness benefits for every day in one or more months for which creditable compensation was adjusted due to the receipt of a report of creditable compensation adjustment (RRB FORM BA-4, OMB Approved 3220-0008) from their railroad employer.

The computer generated Form ID-5S(SUP) includes pertinent identifying information, the BA-4 adjustment process date and the claimed months in question. Space is provided on the report for the employer's use in supplying the information requested in the computer generated transmittal letter, Form ID-5S, which accompanies the report. The RRB proposes no changes to Form ID-5S(SUP) and Form ID-5S. The RRB estimates the completion time for Form ID-5S(SUP) at 10 minutes. Completion is voluntary. One response is requested of each respondent.

Previous Requests for Comments: The RRB has already published the initial 60-day notice (72 FR 8206-8207 on February 23, 2007) required by 44 U.S.C. 3506(c)(2). That request elicited no comments.

Information Collection Request Details (ICR)

Title: Investigation of Claim for Possible Days of Employment.

OMB Control Number: 3220-0196.

Form(s) submitted: ID-5S(SUP).

Type of request: Extension of a currently approved collection.

Affected public: Business or other for-profit.

Abstract: Under the Railroad Unemployment Insurance Act, unemployment or sickness benefits are not payable for any day in which remuneration is payable or accrues to the claimant. The collection obtains information about compensation credited to an employee during a period when the employee claimed unemployment or sickness benefits from their railroad employer.

The burden estimate for the ICR is as follows:

Estimated annual number of respondents: 80.

Total annual responses: 80.

Total annual reporting hours: 13.

5. Title and Purpose of Information Collection: 3220-0200, Designation of Contact Officials.

Coordination between railroad employers and the RRB is essential to properly administer the payment of benefits under the Railroad Retirement Act (RRA) and the Railroad Unemployment Insurance Act (RUIA). In order to enhance timely coordination activity, the RRB utilizes Form G-117a, Designation of Contact Officials. Form G-117a is used by railroad employers to designate employees who are to act as point of contact with the RRB on a variety of RRA and RUIA-related matters. The RRB proposes no changes to Form G-117A. Completion time is estimated at 15 minutes. Completion is voluntary. One response is requested from each respondent.

Previous Requests for Comments: The RRB has already published the initial 60-day notice (75 FR 38565 on July 2, 2010) required by 44 U.S.C. 3506(c)(2). That request elicited no comments.

Information Collection Request (ICR)

Title: Designation of Contact Officials.

OMB Control Number: 3220-0200.

Form(s) submitted: G-117A.

Type of request: Extension of a currently approved collection.

Affected public: Business or other for profit.

Abstract: The Railroad Retirement Board (RRB) requests that railroad employers designate employees to act as liaison with the RRB on a variety of Railroad Retirement Act and Railroad Unemployment Insurance Act matters.

The burden estimate for the ICR is as follows:

Estimated annual number of respondents: 100.

Total annual responses: 100.

Total annual reporting hours: 25.

FOR FURTHER INFORMATION CONTACT: Copies of the form and supporting documents can be obtained from Charles Mierzwa, the agency clearance officer at (312-751-3363) or Charles.Mierzwa@rrb.gov.

Comments regarding the information collection should be addressed to Patricia A. Henaghan, Railroad Retirement Board, 844 North Rush Street, Chicago, Illinois, 60611-2092 or Patricia.Henaghan@rrb.gov and to the OMB Desk Officer for the RRB, at the Office of Management and Budget, Room 10230, New Executive Office Building, Washington, DC 20503.

Charles Mierzwa,
Clearance Officer.

[FR Doc. 2010-26997 Filed 10-25-10; 8:45 am]

BILLING CODE 7905-01-P